CORPORATION FOR NATIONAL AND COMMUNITY SERVICE

Information Collection; Submission for OMB Review; Comment Request

AGENCY: Corporation for National and Community Service.

ACTION: Notice.

SUMMARY: The Corporation for National and Community Service (hereinafter the “Corporation”), has submitted two public information collection requests (ICRs) to the Office of Management and Budget (OMB) for review and approval in accordance with the Paper Reduction Act of 1995, Pub.L. 104-13, (44 U.S.C. Chapter 35). Copies of these individual ICRs, with applicable supporting documentation, may be obtained by calling the Corporation for National and Community Service, Levon Buller, at (202) 606-5000, extension 383. Individuals who use a telecommunications device for the deaf (TTY-TDD) may call (800) 833-3722 between the hours of 9:00 a.m. and 5:00 p.m. Eastern Standard Time, Monday through Friday.

Comments should be sent to the Office of Information and Regulatory Affairs, Attn: Ms. Brenda Aguilar, OMB Desk Officer for the Corporation for National and Community Service, Office of Management and Budget, Room 10235, Washington, DC, 20503, (202) 395-7316, within 30 days from the date of publication in this Federal Register.

The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Two ICR documents have been submitted to OMB for consideration. The first, the Enrollment Form, is a proposed revision of a form currently in use (OMB Number 3045-0006). The Corporation is proposing to make a minor change in the format and to add a self-certification statement that will address a statutory requirement for individuals earning AmeriCorps education awards.

The second document, the Exit Form, is another form currently in use (OMB Number 3045-0015) for which some changes are being proposed. Those proposed changes would delete ten evaluative questions that are asked on the current version, delete a secondary address, and change an eleventh question regarding whether a former member desires to be contacted by organizations for reasons related to their national service.

The two documents were published in the Federal Register on April 7, 2000, for a 60-day pre-clearance public comment period. The Corporation did not receive any requests for copies of the form from any organizations or individuals.

The 60-day notice contained an error in reporting on the Total Respondents and the Estimated Total Burden Hours. It indicated 5,000 respondents and 584 burden hours for each of the forms. The corrected figures should be 48,000 respondents annually and 5,600 burden hours annually for each form. It is estimated that it will average 3 minutes for an AmeriCorps member to complete the member section of the Exit form and it will take the program staff 4 minutes. The 60-day notice had these numbers reversed. The correct figures are contained in this notice.

Enrollment Form

Type of Review: Renewal/Revision

Agency: Corporation for National and Community Service.

Title: Enrollment Form.

OMB Number: OMB #3045-0006.

Agency Number: None.

Affected Public: AmeriCorps participants and their host programs.

Total Respondents: 48,000 annually.

Frequency: Average of once per year. (one form for each term of service).

Average Time Per Response: 7 minutes total—4 minutes for the AmeriCorps member to complete his or her section, and 3 minutes for the program staff to complete the Certifying Official portion.

Estimated Total Burden Hours: 5,600 hours.

Total Burden Cost (capital/startup): N/A.

Total Burden Cost (operating/maintenance): N/A.

Description

The Enrollment Form is the official document used to document that an AmeriCorps member is enrolled in an approved national service position and has begun to earn an education award. The form also provides the Corporation with demographic information for evaluative purposes, and allows the Corporation to project future liabilities for the National Service Trust.

The Enrollment form serves two purposes essential to the function of the AmeriCorps programs. First, it is the means by which AmeriCorps programs certify that a member is eligible to serve in AmeriCorps and has begun his or her term of service. Second, it provides the Corporation, grantees, and program managers with valuable demographic information with which the Corporation can assess and report on member placement.

The change proposed for this form is:

Three multiple-choice statements are being added above the AmeriCorps member's signature line. The statements pertain to high school graduation-related requirements in 42 U.S.C. 12501 et seq. Adding this item to the form will require member self-certification.

Exit Form

Type of Review: Renewal/Revision.

Agency: Corporation for National and Community Service.

Title: Exit Form (formerly called “End of Term/Exit Form”)

OMB Number: 3045-0015.

Agency Number: None.

Affected Public: AmeriCorps members and their host programs.

Total Respondents: 48,000 annually.

Frequency: Average of once per year. (One time for each term of service).

Average Time Per Response: 7 minutes total—3 minutes for the member to complete his or her portion and 4 for the program staff to complete the Certifying Official portion.

Estimated Total Burden Hours: 5,600 hours.

Total Burden Cost (capital/startup): N/A.

Total Burden Cost (operating/maintenance): N/A.

Description

The Corporation's Exit Form is the means by which AmeriCorps programs certify that a member has, or has not, successfully satisfied conditions which must be met in order to receive an education award. When an AmeriCorps member successfully completes a term of national service, a designated program official certifies that the service was completed and the individual is eligible for an education award.

Submission of the Exit Form provides legal certification for the disbursement of an education award to an AmeriCorps member. It is the document by which an authorized program official at an AmeriCorps program site indicates whether an AmeriCorps member is eligible for an education award.

Additional information requested on the form includes the member's service completion date, the current address where the education award documentation should be mailed, and two questions regarding the member's desire for post service information.

The Corporation proposes the following changes to the form:

• Eliminate the ten evaluation questions that are on the form currently being used. The Corporation's Evaluation Division has decided that relevant evaluation data will be collected through surveys.

• Revise question 11 on the current form to incorporate two other post-service opportunities for former AmeriCorps members. Reorganize the question/response options to make the item clearer and to eliminate repetitive language.

• Eliminate the Permanent Address. A Permanent Address is collected from the Enrollment form. It does not change nearly as frequently as does the member's Current Mailing Address, which is the address where the member's education award is mailed. The Permanent Address is used if mail is returned to the Corporation because of an incorrect Current Address. By not asking for an update of the Permanent Address, the entire Exit Form can be included on two sides of one page, a definite advantage.

Future Data Collection for Americorps Programs

In 1999, the Corporation began using an electronic system to both enroll and exit AmeriCorps members. Many local programs can enter into a database information about their members' enrollment and completion of service. They can use the two forms to obtain the information from their participants and enter it into their databases. This data is periodically transferred to the Corporation's database where it becomes the official record. This transfer is currently being done on a weekly basis.

As of the time of this submission, more than fifty percent of the nation's AmeriCorps programs use this system. The Corporation would like to have all programs use it, since it ultimately speeds up both collecting information and issuing education awards to members who have successfully completed their terms of service. However, many AmeriCorps programs, especially smaller ones, do not have the technological resources to afford the computer hardware and software.

The Corporation does not want to exclude any competent, otherwise qualified organizations from participating as a sponsor, so it is possible that there may always be a small number of organizations that will use forms.

Dated: September 27, 2000.
Charlene Dunn,
Director, National Service Trust.

[FR Doc. 00-25366 Filed 10-2-00; 8:45 am]

BILLING CODE 6050-28-P